DEPARTMENT OF HOUSING AND URBAN DEVELOPMENT

[Docket No. FR-4837-D-04]

Redelegations of Authority to Other HUD Offices

AGENCY: Office of the Assistant Secretary for Housing-Federal Housing Commissioner, HUD.

ACTION: Notice of revocation and redelegations of authority.

SUMMARY: Published elsewhere in today's Federal Register, the Secretary of HUD issued an up-to-date comprehensive delegation of authority for housing programs to the Assistant Secretary for Housing—Federal Housing Commissioner and the General Deputy Assistant Secretary for Housing—Deputy Federal Housing Commissioner. This notice advises the public of redelegations of authority from the Assistant Secretary for Housing—Federal Housing Commissioner to HUD officials in HUD Offices other than the Office of Housing.

EFFECTIVE DATE: August 11, 2003.

FOR FURTHER INFORMATION CONTACT: Eliot C. Horowitz, Senior Advisor to the Assistant Secretary for Housing-Federal Housing Commissioner, Office of Housing, Department of Housing and Urban Development, Room 9110, Washington, DC 20410, phone (202) 708-0614, x2125. Persons with hearing or speech impairments may call HUD's TTY number at (202) 708-1455 or the Federal Information Relay Service's TTY number at (800) 877-8339. Other than the “800” number, the telephone numbers listed are not toll-free.

SUPPLEMENTARY INFORMATION: Housing legislation and programs are implemented and administered by the Office of Housing. However, in some instances, the nature of a statute or program, or component thereof, requires another HUD Office to conduct the program or participate in its administration. Under this delegation, the Housing Assistant Secretary is redelegating authority to two HUD Offices as follows: the Office of Fair Housing and Equal Opportunity (FHEO) and the Office of the General Counsel. All prior delegations from the Assistant Secretary of Housing to other HUD Offices are superseded and/or revoked.

Section I. Discussion of Redelegations of Authority

A. FHEO

On February 12, 1999, the Secretary of HUD delegated authority to the Assistant Secretary and General Deputy Assistant Secretary for Housing, enabling each to implement various provisions of the Federal Housing Enterprises Financial Safety and Soundness Act of 1992 (FHEFSSA), 12 U.S.C. 4501 et seq. (64 FR 7406). Under FHEFSSA, HUD has general and specific regulatory authorities respecting the Federal National Mortgage Association and the Federal Home Loan Mortgage Association (collectively referred to as Government Sponsored Enterprises or GSEs). The legislation, more fully described in the February 12, 1999 Federal Register, requires HUD to take a number of actions including, but not limited to, establishing goals for the GSEs' purchases of mortgages (e.g., for low- and moderate-income families and housing located in central cities, rural and other under-served areas). Another major thrust of the legislation is designed to ensure that the GSEs and mortgage lenders comply with the Fair Housing authority under FHEFSSA and, thus, do not engage in discriminatory practices.

Also, on February 12, 1999, the Assistant Secretary for Housing redelegated the Fair Housing authority of FHEFSSA to the Assistant Secretary for FHEO (64 FR 7407). The nature of the authority redelegated, also more fully described in the February 12, 1999 Federal Register publication, complements authorities already under the jurisdiction of FHEO. Essentially, this authority enables FHEO to receive and properly safeguard confidential and propriety information received from a GSE and to take appropriate enforcement related actions where violations of FHEFSSA requirements occur. The authority delegated herein references the reader to the notice in the Federal Register of February 12, 1999, and in no way revises that delegation. Consistent with that notice, the authority delegated to the Assistant Secretary for FHEO may not be redelegated.

B. Office of General Counsel

The Assistant Secretary for Housing-Federal Housing Commissioner is redelegating authority to the General Counsel to take all actions permitted under 24 CFR 30.45 and 24 CFR 30.36. This action restates, reaffirms, and supersedes the Assistant Secretary's decisions to redelegate the same authority on September 12, 2002, published in the Federal Register on December 31, 2002 at 67 FR 79943 and 79944. .

Also on September 12, 2002, the General Counsel redelegated the authority, to staff in the Departmental Enforcement Center (DEC), to take actions under 24 CFR 30.45 and 30.36. See 67 FR 79944 and 79945. That redelegation remains in effect and is not affected by the redelegations issued today. The DEC was recently placed under the Office of the General Counsel and is responsible for carrying out a wide range of HUD enforcement activities. The redelegations issued today promote efficient enforcement operations within the Department. The nature of the authority being redelegated today is set forth below.

HUD regulations at 24 CFR 30.45 authorize the Assistant Secretary for Housing, or his or her designee, to take a civil money penalty action against any mortgagor of a multifamily property with a mortgage insured, co-insured, or held by the Secretary pursuant to Title II of the National Housing Act or against any mortgagor of a property with a mortgage held by the Secretary pursuant to section 202 of the Housing Act of 1959. Section 30.45 refers to the statutory provisions enumerating the violations for which the Assistant Secretary may impose a penalty upon those mortgagors. (See 12 U.S.C. 1701q-1(b) and (c), and 12 U.S.C. 1735f-15(b) and (c).)

HUD regulations at 24 CFR 30.36 authorize the Assistant Secretary for Housing, or the Assistant Secretary's designee, to take a civil money penalty action against any principal, officer or employee of a mortgagee or lender, or other participant, in either a mortgage insured under the National Housing Act (Act) or any loan that is covered by a contract of insurance under Title I of the Act, or any provider of assistance to a borrower in connection with any such mortgage or loan, including sellers, borrowers, closing agents, title companies, real estate agents, mortgage brokers, appraisers, loan correspondents, dealers, consultants, contractors, subcontractors and inspectors. Section 30.36 also identifies the violations for which the Assistant Secretary may impose a penalty. (See also 12 U.S.C. 1735f-14.)

In addition, the Assistant Secretary is redelegating the authority to the General Counsel to issue (1) a notice of violation under the terms of a regulatory agreement and/or (2) a notice of default under the terms of a section 8 housing assistance contract. HUD regulations at 24 CFR 30.68 authorize the Assistant Secretary for Housing or his or her designee, and the Assistant Secretary for Public and Indian Housing, or his or her designee, to initiate civil money penalty actions against any owner, any general partner of a partnership owner, or any agent employed to manage the property that has an identity of interest with the owner or the general partner or a partnership owner of a property receiving project-based assistance under section 8 of the United States Housing Act of 1937 (42 U.S.C. 1437f), for a knowing and material breach of a housing assistance payments contract.

Violations of a project regulatory agreement can result in serious sanctions being imposed against a project owner. A notice of violation of the regulatory agreement provides an owner with both a notice of violations and the opportunity to remedy the violations. If violations are not remedied, the Office of Housing can impose sanctions upon a project owner including making a request that a lender declare a default under the project's insured mortgage. Similarly, violations of the terms of a housing assistance contract, if not remedied, can lead to serious consequences, including a decision by the Office of Housing to abate, terminate or redirect housing assistance funds. Notices of violations under regulatory agreements and defaults under housing assistance contracts address project owners who fail to maintain their properties in accordance with HUD requirements.

Finally, the delegation of authority, noticed today, does not affect the authority of the Mortgagee Review Board, described in 24 CFR 30.35, or the Assistant Secretary for Housing, to initiate civil money penalty actions.

Section II. Authority Redelegated

The Assistant Secretary for Housing-Federal Housing Commissioner and the General Deputy Assistant Secretary for Housing—Deputy Federal Housing Commissioner retain and redelegate, to the officials listed below, the power and authority described as follows:

A. Assistant Secretary, Office of Fair Housing and Equal Opportunity

Authority is redelegated on a nation-wide basis to exercise the Fair Housing provisions of FHEFSSA at 12 U.S.C. 4545, and under the regulations at 24 CFR part 81, subpart C, as described in the Federal Register notice of delegation of February 12, 1999 (64 FR 7407) and subject to the limitations and/or exceptions set forth therein.

B. General Counsel, Office of the General Counsel

Authority is redelegated to the General Counsel to take all actions permitted under 24 CFR 30.45, 24 CFR 30.36, and 24 CFR 30.68 to issue (1) a notice of violation under the terms of a project regulatory agreement and (2) a notice of default under a section 8 housing assistance contract.

Section III. Authority Excepted

The authority delegated in Section II. does not include the authority to waive regulations under the program jurisdiction of the Assistant Secretary for Housing.

Section IV. Further Redelegations

A. The authority redelegated to the Assistant Secretary for the Office of Fair Housing and Equal Opportunity may not be redelegated.

B. The General Counsel is authorized to redelegate the authority redelegated in section II.B. above.

Section V. Prior Delegations Revoked and/or Superseded

The delegations of authority to the General Counsel, issued on December 31, 2002 are hereby superseded.

Section VI. Revocation of Authority

The Assistant Secretary for Housing-Federal Housing Commissioner may revoke the authority authorized herein, in whole or part, at any time. Any revocation or modification of a redelegation will be published in the Federal Register.

Authority: Section 7(d), Department of Housing and Urban Development Act, 42 U.S.C. 3535(d).

Dated: August 11, 2003.
John C. Weicher,
Assistant Secretary for Housing-Federal Housing Commissioner.

[FR Doc. 03-21242 Filed 8-19-03; 8:45 am]

BILLING CODE 4210-27-P